DEPARTMENT OF THE INTERIOR

[FWS-R4-FHC-2016-N208; FVHC98210408710-XXX-FF04G01000]

Deepwater Horizon Oil Spill; Draft Louisiana Trustee Implementation Group Restoration Plan #1: Restoration of Wetlands, Coastal, and Nearshore Habitats; Habitat Projects on Federally Managed Lands; and Birds

AGENCY: Department of the Interior.

ACTION: Notice of availability; reopening of public comment period.

SUMMARY: We are reopening the public comment period on the Louisiana Trustee Implementation Group Draft Restoration Plan #1: Restoration of Wetlands, Coastal, and Nearshore Habitats; Habitat Projects on Federally Managed Lands; and Birds (Draft Restoration Plan #1). We opened the public comment period via a November 1, 2016, notice of availability. The public comment period closed on November 28, 2016.

DATES: Comments Due Date: We will consider public comments received November 1, 2016 through December 9, 2016.

ADDRESSES: Obtaining Documents: You may download the Louisiana Trustee Implementation Group Draft Restoration Plan 1: Restoration of Wetlands, Coastal, and Nearshore Habitats; Habitat Projects on Federally Managed Lands; and Birds at any of the following sites:

• http://www.gulfspillrestoration.noaa.gov

• http://www.doi.gov/deepwaterhorizon

• http://la-dwh.com

Alternatively, you may request a CD of the Draft Restoration Plan 1 (see FOR FURTHER INFORMATION CONTACT). You may also view the document at any of the public facilities listed at http://www.gulfspillrestoration.noaa.gov.

Submitting Comments: You may submit comments on the draft document by one of following methods:

• Via the Web: http://www.gulfspillrestoration.noaa.gov/restoration-areas/louisiana.

• Via U.S. Mail: U.S. Fish and Wildlife Service, P.O. Box 49567, Atlanta, GA 30345.

• Louisiana Coastal Protection & Restoration Authority, ATTN: Liz Williams, P.O. Box 44027, Baton Rouge, LA 70804.

FOR FURTHER INFORMATION CONTACT: Liz Williams at LATIG.la.gov.

SUPPLEMENTARY INFORMATION:

Introduction

In accordance with the Oil Pollution Act of 1990 (OPA), the National Environmental Policy Act (NEPA), the Consent Decree, and the Final Programmatic Damage Assessment Restoration Plan and Final Programmatic Environmental Impact Statement, the Federal and State natural resource trustee agencies for the Louisiana Trustee Implementation Group (Trustees) have prepared a Draft Restoration Plan 1: Restoration of Wetlands, Coastal, and Nearshore Habitats; Habitat Projects on Federally Managed Lands; and Birds (Draft Restoration Plan 1). Draft Restoration Plan 1 describes and proposes engineering and design activities for restoration projects intended to continue the process of restoring natural resources and services injured or lost as a result of the Deepwater Horizon oil spill, which occurred on or about April 20, 2010, in the Gulf of Mexico.

Background

For additional background information, see our original Federal Register notice, which opened the comment period (November 1, 2016; 81 FR 75840).

Invitation To Comment

The Trustees seek public review and comment on the proposed projects and supporting analysis included in the Draft Restoration Plan 1. Before including your address, phone number, email address, or other personal identifying information in your comment, you should be aware that your entire comment, including your personal identifying information, may be made publicly available at any time.

Authority

The authority of this action is the Oil Pollution Act of 1990 (33 U.S.C. 2701 et seq.) and the implementing Natural Resource Damage Assessment regulations found at 15 CFR 990.

Kevin D. Reynolds,
Department of the Interior Deepwater Horizon Case Manager.

[FR Doc. 2016-28675 Filed 11-29-16; 8:45 am]

BILLING CODE 4310-55-P